COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee is proposing to add to the Procurement List a commodity and a service to be furnished by nonprofit agencies employing persons who are blind or have other severe disabilities.

COMMENTS MUST BE RECEIVED ON OR BEFORE: November 8, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in the notice for each commodity or service will be required to procure the commodity and service listed below from nonprofit agencies employing persons who are blind or have other severe disabilities.

I certify that the following action will not have a significant impact on a substantial number of small entities. The major factors considered for this certification were:

1. The action will not result in any additional reporting, recordkeeping or other compliance requirements for small entities other than the small organizations that will furnish the commodity and service to the Government.

2. The action will result in authorizing small entities to furnish the commodity and service to the Government.

3. There are no known regulatory alternatives which would accomplish the objectives of the Javits-Wagner-O'Day Act (41 U.S.C. 46-48c) in connection with the commodity and service proposed for addition to the Procurement List. Comments on this certification are invited. Commenters should identify the statement(s) underlying the certification on which they are providing additional information.

The following commodity and service are proposed for addition to Procurement List for production by the nonprofit agencies listed:

Commodity

Glove, Surgeon

6515-00-NIB-0121

6515-00-NIB-0122

6515-00-NIB-0123

6515-00-NIB-0124

6515-00-NIB-0125

6515-00-NIB-0126

6515-00-NIB-0127

6515-00-NIB-0128

6515-00-NIB-0129

6515-00-NIB-0130

6515-00-NIB-0131

6515-00-NIB-0132

6515-00-NIB-0133

6515-00-NIB-0134

6515-00-NIB-0135

6515-00-NIB-0136

6515-00-NIB-0137

6515-00-NIB-0138

6515-00-NIB-0139

6515-00-NIB-0140

6515-00-NIB-0141

6515-00-NIB-0142

6515-00-NIB-0143

6515-00-NIB-0144

6515-00-NIB-0145

6515-00-NIB-0146

6515-00-NIB-0147

6515-00-NIB-0148

6515-00-NIB-0149

6515-00-NIB-0150

6515-00-NIB-0151

6515-00-NIB-0152

6515-00-NIB-0153

6515-00-NIB-0154

6515-00-NIB-0155

6515-00-NIB-0156

6515-00-NIB-0157

6515-00-NIB-0158

6515-00-NIB-0159

6515-00-NIB-0160

6515-00-NIB-0161

6515-00-NIB-0162

6515-00-NIB-0163

6515-00-NIB-0164

6515-00-NIB-0165

6515-00-NIB-0166

6515-00-NIB-0167

6515-00-NIB-0168

6515-00-NIB-0169

6515-00-NIB-0170

6515-00-NIB-0171

6515-00-NIB-0172

6515-00-NIB-0173

6515-00-NIB-0174

6515-00-NIB-0175

6515-00-NIB-0176

6515-00-NIB-0177

6515-00-NIB-0178

6515-00-NIB-0179

6515-00-NIB-0180

6515-00-NIB-0181

6515-00-NIB-0182

6515-00-NIB-0183

6515-00-NIB-0184

6515-00-NIB-0185

6515-00-NIB-0186

6515-00-NIB-0187

6515-00-NIB-0188

6515-00-NIB-0189

6515-00-NIB-0190

6515-00-NIB-0191

6515-00-NIB-0192

6515-00-NIB-0193

6515-00-NIB-0194

6515-00-NIB-0195

6515-00-NIB-0196

6515-00-NIB-0197

6515-00-NIB-0198

6515-00-NIB-0199

6515-00-NIB-0200

6515-00-NIB-0201

6515-00-NIB-0202

6515-00-NIB-0203

6515-00-NIB-0204

6515-00-NIB-0205

6515-00-NIB-0206

6515-00-NIB-0207

6515-00-NIB-0208

6515-00-NIB-0209

6515-00-NIB-0210

6515-00-NIB-0211

6515-00-NIB-0212

6515-00-NIB-0213

6515-00-NIB-0214

6515-00-NIB-0215

6515-00-NIB-0216

6515-00-NIB-0217

6515-00-NIB-0218

6515-00-NIB-0219

6515-00-NIB-0220

6515-00-NIB-0221

6515-00-NIB-0222

6515-00-NIB-0223

NPA: Bosma Industries for the Blind, Inc. Indianapolis, Indiana

Government Agency: Department of Veterans Affairs/National Acquisition Center

Service

Central Facility Management

Veterans Affairs Headquarters Building, Washington, DC

NPA: Service Disabled Veterans Business Association Washington, District of Columbia

Government Agency: Department of Veterans Affairs

Sheryl D. Kennerly,
Director, Information Management.

[FR Doc. 01-25276 Filed 10-5-01; 8:45 am]

BILLING CODE 6353-01-P